DEPARTMENT OF EDUCATION

[CFDA No. 84.042A]

Student Support Services (SSS) Program

ACTION: Extension; Notice extending the deadline dates.

SUMMARY: We extend the Deadline for Transmittal of Applications and the Deadline for Intergovernmental Review dates in the notice published on October 22, 2009 (74 FR 54554-54558).

SUPPLEMENTARY INFORMATION: On October 22, 2009, we published a notice in the Federal Register (74 FR 54554) inviting applications for new awards for fiscal year (FY) 2010 for the Student Support Services (SSS) Program. The Deadline for Transmittal of Applications date, as published on pages 54554 and 54555, has been extended to December 14, 2009. The Deadline for Intergovernmental Review date, as published on pages 54554 and 54556, has been extended to February 10, 2010.

FOR FURTHER INFORMATION CONTACT: Deborah Walsh or, if unavailable, contact Lavelle Redmond, U.S. Department of Education, 1990 K Street, NW., room 7000, Washington, DC 20006-8510. Telephone: (202) 502-7600 or by e-mail: TRIO@ed.gov.

If you use a telecommunications device for the deaf (TDD), call the Federal Relay Service (FRS), toll free, at 1-800-877-8339.

Individuals with disabilities can obtain this document in an accessible format (e.g., braille, large print, audiotape, or computer diskette) on request to the program contact person listed under FOR FURTHER INFORMATION CONTACT.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: October 23, 2009.
Daniel T. Madzelan,
Director, Forecasting and Policy Analysis.

[FR Doc. E9-25971 Filed 10-27-09; 8:45 am]

BILLING CODE 4000-01-P